SECURITIES AND EXCHANGE COMMISSION

Issuer Delisting; Notice of Application To Withdraw From Listing and Registration on the New York Stock Exchange, Inc. (Progressive Return Fund, Inc., Common Stock, $.001 Par Value) File No. 1-10341

January 17, 2003.

Progressive Return Fund, Inc., a Maryland corporation (“Issuer”), has filed an application with the Securities and Exchange Commission (“Commission”), pursuant to Section 12(d) of the Securities Exchange Act of 1934 (“Act”) ¹ and Rule 12d2-2(d) thereunder,² to withdraw its Common Stock, $.001 par value (“Security”), from listing and registration on the New York Stock Exchange, Inc. (“NYSE” or “Exchange”).

¹ 15 U.S.C. 78l(d).

² 17 CFR 240.12d2-2(d).

The Board of Directors of the Issuer (“Board”) approved a resolution on December 2, 2002 to withdraw the Issuer's Security from listing on the NYSE. In making its decision to withdraw the Security from the Exchange, the Board determined that it was in the Issuer's best interest to delist from the NYSE and list on the American Stock Exchange LLC (“Amex”) due to the continued decline in the level of net assets which would affect the Issuer's ability to remain listed on the NYSE. The Issuer anticipates that it will begin trading on the Amex once the Issuer is delisted from the NYSE.

The Issuer stated in its application that it has complied with the NYSE's rules governing an issuer's voluntary withdrawal of a security from listing and registration. The Issuer's application relates solely to the Security's withdrawal from listing on the NYSE and from registration under Section 12(b) of the Act ³ and shall not affect its obligation to be registered under Section 12(g) of the Act.⁴

³ 15 U.S.C. 78l(b).

⁴ 15 U.S.C. 78l(g).

Any interested person may, on or before February 10, 2003, submit by letter to the Secretary of the Securities and Exchange Commission, 450 Fifth Street, NW., Washington, DC 20549-0609, facts bearing upon whether the application has been made in accordance with the rules of the NYSE and what terms, if any, should be imposed by the Commission for the protection of investors. The Commission, based on the information submitted to it, will issue an order granting the application after the date mentioned above, unless the Commission determines to order a hearing on the matter.

For the Commission, by the Division of Market Regulation, pursuant to delegated authority.⁵
⁵ 17 CFR 200.30-3(a)(1).
Jonathan G. Katz,
Secretary.

[FR Doc. 03-1603 Filed 1-23-03; 8:45 am]

BILLING CODE 8010-01-M